NUCLEAR REGULATORY COMMISSION

Public Meeting on 10 CFR Part 70; Standard Review Plan

AGENCY: Nuclear Regulatory Commission (NRC).

ACTION: Notice of meeting.

SUMMARY: NRC will host a public meeting in Rockville, Maryland. The meeting will provide an opportunity for discussion of stakeholder comments on the revised Standard Review Plan (SRP) chapters and Nuclear Energy Institute's (NEI) revised Integrated Safety Analysis (ISA) Summary guidance document. The revised SRP can be reviewed on the Internet at the following website: http://techconf.llnl.gov/cgi-bin/library?source=*&library= Part_70_lib&file

PURPOSE: This meeting will provide an opportunity to discuss any comments on the staff's recently revised SRP chapters.

DATES: The meeting is scheduled for Thursday, August 3, 2000, from 9 a.m. to 4:30 p.m. The meeting is open to the public.

ADDRESSES: ASLBP Hearing Room at Two White Flint North, 11545 Rockville Pike, Rockville, Maryland. Visitor parking around the NRC building is limited; however, the meeting site is located adjacent to the White Flint Station on the Metro Red Line.

FOR FURTHER INFORMATION CONTACT: Philip Ting, Office of Nuclear Material Safety and Safeguards, U.S. Nuclear Regulatory Commission, Washington, DC 20555, telephone: (301) 415-7156, e-mail pxt@nrc.gov.

Dated at Rockville, Maryland this 14th day of July, 2000.
For the Nuclear Regulatory Commission.
Philip Ting,
Chief, Fuel Cycle Licensing Branch, Division of Fuel Cycle Safety and Safeguards, Office of Nuclear Materials Safety and Safeguards.

[FR Doc. 00-18422 Filed 7-19-00; 8:45 am]

BILLING CODE 7590-01-P